DEPARTMENT OF HEALTH AND HUMAN SERVICES

Substance Abuse and Mental Health Services Administration (SAMHSA)

Agency Information Collection Activities: Proposed Collection; Comment Request

In compliance with section 3506(c)(2)(A) of the Paperwork Reduction Act of 1995 concerning opportunity for public comment on proposed collections of information, SAMHSA will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Community Mental Health Services Block Grant and Substance Use Prevention, Treatment, and Recovery Services (SUPTRS BG) FY 2024-2025 Plan and Report Guidance and Instructions (OMB No. 0930-0168)

SAMHSA is requesting approval from the Office of Management and Budget (OMB) of the 2024-2025 Community Mental Health Services Block Grant (MHBG) and Substance Use Prevention, Treatment, and Recovery Services (SUPTRS BG) (formally known as Substance Abuse Prevention and Treatment Block Grant (SABG)) Application Plan and Report Guidance and Instructions.

Currently, the SUPTRS BG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SUPTRS BG. As a result, how these dollars are spent and what is known about the services and clients that receive these funds varies by block grant and by state.

SAMHSA has conveyed that block grant funds must be directed toward four purposes: (1) to fund priority treatment and support services for individuals without insurance or who cycle in and out of health insurance coverage; (2) to fund those priority treatment and support services not covered by Medicaid, Medicare, or private insurance offered through the exchanges and that demonstrate success in improving outcomes and/or supporting recovery; (3) to fund universal, selective and targeted prevention activities and services; and (4) to collect performance and outcome data to determine the ongoing effectiveness of behavioral health prevention, treatment and recovery support services and to plan the implementation of new services on a nationwide basis. SAMHSA's five priorities (Preventing Overdose; Enhancing Access to Suicide Prevention and Crisis Care; Promoting Resilience and Emotional Health for Children, Youth and Families; Integrating Behavioral and Physical Health Care; and Strengthening the Behavioral Health Workforce) are highlighted and states are encouraged to incorporate them into their systems improvement efforts.

States will need help to meet future challenges associated with, the implementation and management of an integrated physical health, mental health, and addiction service system. SAMHSA has established standards and expectations that will lead to an improved system of care for individuals with or at risk of mental and substance use disorders. Therefore, this application package continues to fully exercise SAMHSA's existing authority regarding states', territories' and the Red Lake Band of Chippewa Indians (subsequently referred to as “states”) use of block grant funds as they fully integrate behavioral health services into the broader health care continuum.

Consistent with previous applications, the FY 2024-2025 application has required sections and other sections where additional information is requested. The FY 2024-2025 application requires states to submit a face sheet, a table of contents, a behavioral health assessment and plan, reports of expenditures and persons served, an executive summary, and funding agreements and certifications. In addition, SAMHSA is requesting information on key areas that are critical to the states' success in addressing health care equity. Therefore, as part of this block grant planning process, states should identify promising or effective strategies as well as technical assistance needed to implement the strategies identified in their plans for FYs 2024 and 2025.

Pursuant to the mandates and supplemental funding appropriations for the MHBG and the SUPTRS BG found in the Consolidated Appropriations Act, 2023, Consolidated Appropriations Act, 2021 [Pub. L. 116-260] and the American Rescue Plan Act, 2021 [Pub. L. 117-2], SAMHSA has made changes to the Block Grant Plan and Report requirements for FFY 2024 and 2025. These changes are necessary to ensure that funds are spent in an appropriate and timely manner. Adjustments were made to pre-existing tables in the plan and report.

On the SUPTRS BG narrative portion of the Block Grant Plan document major changes include the removal of words and terms with negative connotations and addition of those that are more appropriate. Examples include changing the word “abuse” to “use” and “Medication Assisted Treatment” to “Medication for Opioid Use Disorder” throughout the document. Language is included regarding the promotion of recovery for those who are in recovery, or who are receiving recovery support services, but who may not have participated in treatment in any fashion. The section regarding the Consolidated Appropriations Act (COVID-19) has been removed as it is no longer applicable after FY 2023. Additionally, there is a new narrative section outlining the concept of health equity and how Single State Authorities can work within their states to promote equitable promotion and use of resources. A new section on Harm Reduction efforts was added to illustrate that this work will be instrumental in SUD Prevention and Treatment moving forward. The SUPTRS BG MOE requirements, Women's MOE requirements, Tuberculosis screening requirements, and restrictions on funding sections have been revamped for a better understanding of program requirements.

For the planning tables, changes were made to tables 10, 14, and a slight change to table 15. Updated information regarding the requesting of waivers under table 10, section 11 was added to reflect relevant sections of the PHS Act. Considerable updates to the narrative in question 14 regarding Medication for Opioid Use disorder reflect not only the new change in terminology but advances in the field. Lastly, table 15 “Crisis Services” has been listed as requested for future SUPTRS BG applications.

On the MHBG report there are changes with the addition of two new tables to the population and service indicators (tables 8c and 8d) and one new table to the performance indicators and accomplishments section (table 19d). In addition, original MHBG table 19 has been relabeled 19a, 19a has been relabeled 19c, 20 has been relabeled 19b. All MHBG tables which collect gender, sexual orientation, and race information have been updated. In addition, MHBG tables have been updated to make age groups consistent across all applicable MHBG tables. The additional tables should not require excessive effort as all data will already be collected by the states for the additional funding efforts.

Similarly, modifications to SUPTRS BG reports were made to allow for the accurate capture of information for the FY 2024/FY 2025 reporting period and SUPTRS BG priorities. A new table, 10b, was added to assess the number of persons served by SUPTRS BG funds who receive recovery support services. The table also captures client characteristics, specifically age and gender. Although SUPTRS BG reporting will allow for applicable grantees to continue to report data on COVID-19 expenditures and persons served using those funds, reporting requirements were streamlined with the elimination of table 2b. Additionally, table 3c was added to capture SUPTRS BG expenditures on Narcan and Fentanyl Test Strips. Report tables were also modified. Table 2 was modified to include a recovery support activity as required under the Consolidated Appropriations Act, 2023. Modifications to table 12 were also made to request the number of persons at risk for HIV/AIDS that were referred for PrEP services. Lastly, minor modifications were made to prior tables to clarify information previously requested. For example, tables 11a and 11b, were modified to ensure that age, race, gender identity, and sexual orientation categories are consistent between SUPTRS BG and MHBG.

While the statutory deadlines and block grant award periods remain unchanged, SAMHSA encourages states to turn in their application as early as possible to allow for a full discussion and review by SAMHSA. Applications for the MHBG-only are due no later than September 1, 2023. The application for SUPTRS BG-only is due no later than October 1, 2023. A single application for MHBG and SUPTRS BG combined is due no later than September 1, 2023.

Estimates of Annualized Hour Burden

The estimated annualized burden for the uniform application will increase to 33,493 hours to account for recording of the additional supplemental funding efforts (approximately 2 hours per state agency). Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
Substance use prevention, treatment, and recovery services and community mental health services block grants | Substance use prevention, treatment, and recovery services and community mental health services block grants: Authorizing legislation | Substance use prevention, treatment, and recovery services and community mental health services block grants: Authorizing legislation MHBG | Substance use prevention, treatment, and recovery services and community mental health services block grants: Implementing regulation | Substance use prevention, treatment, and recovery services and community mental health services block grants: Number of respondents | Substance use prevention, treatment, and recovery services and community mental health services block grants: Number of responses per year | Substance use prevention, treatment, and recovery services and community mental health services block grants: Number of hours per response | Substance use prevention, treatment, and recovery services and community mental health services block grants: Total hours
Reporting | Standard Form and Content
| 42 U.S.C. 300x-32(a)
| Annual Report |  |  |  |  |  | 11,190
| 42 U.S.C. 300x-52(a) |  | 45 CFR 96.122(f) | 60 | 1 |  |
| 42 U.S.C. 300x-30-b |  |  | 5 | 1 |  |
| 42 U.S.C. 300x-30(d)(2) |  | 45 CFR 96.134(d) | 60 | 1 |  |
MHBG | Annual Report |  |  |  |  |  | 11,003
|  | 42 U.S.C. 300x-6(a) |  | 59 | 1 |  |
|  | 42 U.S.C. 300x-52(a) |  |  |  |  |
|  | 42 U.S.C. 300x-4(b)(3)B |  | 59 | 1 |  |
| State Plan (Covers 2 years)
SUPTRS BG elements | 42 U.S.C. 300x-22(b) |  | 45 CFR 96.124(c)(1) | 60 | 1 |  |
| 42 U.S.C. 300x-23 |  | 45 CFR 96.126(f) | 60 | 1 |  |
| 42 U.S.C. 300x-27 |  | 45 CFR 96.131(f) | 60 | 1 |  |
| 42 U.S.C. 300x-32(b) |  | 45 CFR 96.122(g) | 60 | 1 | 120 | 7,230
MHBG elements |  | 42 U.S.C. 300x-1(b) |  | 59 | 1 | 120 | 7,109
|  | 42 U.S.C. 300x-1(b)(2) |  | 59 | 1 |  |
|  | 42 U.S.C. 300x-2(a) |  | 59 | 1 |  |
| Waivers |  |  |  |  |  | 3,240
| 42 U.S.C. 300x-24(b)(5)(B) |  |  | 20 | 1 |  |
| 42 U.S.C. 300x-28(d) |  | 45 CFR 96.132(d) | 5 | 1 |  |
| 42 U.S.C. 300x-30(c) |  | 45 CFR 96.134(b) | 10 | 1 |  |
| 42 U.S.C. 300x-31(c) |  |  | 1 | 1 |  |
| 42 U.S.C. 300x-32(c) |  |  | 7 | 1 |  |
| 42 U.S.C. 300x-32(e) |  |  | 10 |  |  |
|  | 42 U.S.C. 300x-2(a)(2) |  | 10 |  |  |
|  | 42 U.S.C. 300x-4(b)(3) |  | 10 |  |  |
|  | 42 U.S.C. 300x-6(b) |  | 7 |  |  |
Recordkeeping | 42 U.S.C. 300x-23 | 42 U.S.C. 300x-3 | 45 CFR 96.126(c) | 60/59 | 1 | 20 | 1,200
| 42 U.S.C. 300x-25 |  | 45 CFR 96.129(a)(13) | 10 | 1 | 20 | 200
| 42 U.S.C. 300x-65 |  | 42 CFR Part 54 | 60 | 1 | 20 | 1,200
Combined Burden |  |  |  |  |  |  | 42,373
Report.
300x-52(a)—Requirement of Reports and Audits by States—Report.
300x-30(b)—Maintenance of Effort (MOE) Regarding State Expenditures—Exclusion of Certain Funds (SUBG).
300x-30(d)(2)—MOE—Noncompliance—Submission of Information to Secretary (SUBG).
State Plan—SUBG.
300x-22(b)—Allocations for Women.
300x-23—Intravenous Substance Abuse.
300x-27—Priority in Admissions to Treatment.
300x-29—Statewide Assessment of Need.
300x-32(b)—State Plan.
State Plan—MHBG.
42 U.S.C. 300x-1(b)—Criteria for Plan.
42 U.S.C. 300x-1(b)(2)—State Plan for Comprehensive Community Mental Health Services for Certain Individuals—Criteria for Plan—Mental Health System Data and Epidemiology.
42 U.S.C. 300x-2(a)—Certain Agreements—Allocations for Systems Integrated Services for Children.
Waivers—SUBG.
300x-24(b)(5)(B)—Human Immunodeficiency Virus—Requirement regarding Rural Areas.
300x-28(d)—Additional Agreements.
300x-30(c)—MOE.
300x-31(c)—Restrictions on Expenditure of Grant—Waiver Regarding Construction of Facilities.
300x-32(c)—Certain Territories.
300x-32(e)—Waiver amendment for 1922, 1923, 1924 and 1927.
Waivers—MHBG.
300x-2(a)(2)—Allocations for Systems Integrated Services for Children.
300x-6(b)—Waiver for Certain Territories.
Recordkeeping.
300x-23—Waiting list.
300x-25—Group Homes for Persons in Recovery from Substance Use Disorders.
300x-65—Charitable Choice.

Table 2—Estimates of Application and Reporting Burden for Year 2
| Number of respondents | Number of responses per year | Number of hours per response | Total hours
Reporting:
SUBG | 60 | 1 | 187 | 11,220
MHBG | 59 | 1 | 187 | 11,033
Recordkeeping | 60/59 | 1 | 40 | 2,360
Combined Burden |  |  |  | 24,613
The total annualized burden for the application and reporting is 33,493 hours (42,373 + 24,613 = 66,986/2 years = 33,493).

Link for the application: http://www.samhsa.gov/grants/block-grants.

Written comments and recommendations for the proposed information collection should be sent within 30 days of publication of this notice to www.reginfo.gov/public/do/PRAMain. Find this information collection by selecting “Currently under 30-day Review—Open for Public Comments” or by using the search function.

Alicia Broadus,
Public Health Advisor.

[FR Doc. 2023-08337 Filed 4-19-23; 8:45 am]

BILLING CODE 4162-20-P